FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A copy of the agreement is available through the Commission's Web site (http://www.fmc.gov) or by contacting the Office of Agreements at (202) 523-5793 or tradeanalysis@fmc.gov.

Agreement No.: 012048-001.

Title: The Container Trades Statistics Agreement.

Parties: A.P. Moeller-Maersk A/S; China Shipping Container Lines Co., Ltd.; COSCO Container Lines Company Ltd.; CMA CGM S.A.; Compania Sudamericana de Vapores S.A.; Evergreen Line Joint Service Agreement; Hamburg Sud KG; Hanjin Shipping Co., Ltd.; Hapag-Lloyd AG; Hyundai Merchant Marine Co., Ltd.; Independent Container Line Ltd.; Mediterranean Shipping Co. S.A.; Orient Overseas Container Line Ltd.; Pacific International Lines (PTE) Ltd.; United Arab Shipping Co. (SAG); Yangming Marine Transport Corp.; and Zim Integrated Shipping Services, Ltd.

Filing Party: Wayne R. Rohde, Esq.; Sher & Blackwell LLP; 1850 M Street, NW.; Suite 900; Washington, DC 20036.

Synopsis: The agreement deletes Kawasaki Kisen Kaisha, Ltd., Mitsui O.S.K. Lines, Ltd., and Nippon Yusen Kaisha Line as parties to the agreement.

By Order of the Federal Maritime Commission.
Dated: January 15, 2010.
Karen V. Gregory,
Secretary.

[FR Doc. 2010-1073 Filed 1-20-10; 8:45 am]

BILLING CODE 6730-01-P